DEPARTMENT OF LABOR

Employment and Training Administration

[TA-W-63,688]

Royal Home Fashions, a Subsidiary of Croscill, Inc., Plant #4, Currently Known as Croscill Acquisition, LLC, Henderson, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility To Apply for Worker Adjustment Assistance and Alternative Trade Adjustment Assistance on August 4, 2008, applicable to workers of Royal Home Fashions, a subsidiary of Croscill, Inc., Plant #4, Henderson, North Carolina. The notice was published in the Federal Register on August 21, 2008 (73 FR 49491).

At the request of a company official, the Department reviewed the certification for workers of the subject firm. The workers are engaged in the production of comforters, window treatments, towels, dust ruffles, pillow shams and sheets.

The company reports that in November 2008 Royal Home Fashions, a subsidiary of Croscill, Inc., was sold to Croscill Acquisition, LLC.

Accordingly, the certification is being amended to include workers at Royal Home Fashions, a subsidiary of Croscill, Inc., Plant 4, Henderson, North Carolina, whose wages are reported under the Unemployment Insurance (UI) tax account for the successor firm, Croscill Acquisition, LLC.

The amended notice applicable to TA-W-63,688 is hereby issued as follows:

All workers of Royal Home Fashions, a subsidiary of Croscill, Inc., Plant #4, currently known as Croscill Acquisition, LLC, Henderson, North Carolina, who became totally or partially separated from employment on or after September 1, 2008, through August 4, 2010, are eligible to apply for adjustment assistance under Section 223 of the Trade Act of 1974, and are also eligible to apply for alternative trade adjustment assistance under Section 246 of the Trade Act of 1974.

Signed at Washington, DC this 24th day of December 2008.
Linda G. Poole,
Certifying Officer, Division of Trade Adjustment Assistance.

[FR Doc. E8-31326 Filed 1-5-09; 8:45 am]

BILLING CODE 4510-FN-P